DEPARTMENT OF HEALTH AND HUMAN SERVICES

Centers for Disease Control and Prevention

[30Day-10-09BL]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

The Epidemiology and Impact of Workplace Violence in Pennsylvania Teachers and Paraprofessionals—NEW—National Institute for Occupational Safety and Health (NIOSH), Centers for Disease Control and Prevention (CDC).

Background and Brief Description

Workplace violence (WPV) is a significant concern for employers and employees alike; every year in the U.S., WPV results in hundreds of deaths, nearly two million nonfatal injuries, and billions of dollars in costs. Historically, the education field has not been the focus of WPV research; however, the classroom is a workplace too. From 1999 to 2003, teachers were the victims of approximately 183,000 nonfatal crimes including 119,000 thefts and 65,000 violent crimes such as rape and assault.

Workplace violence is not limited to physical attacks; verbal threats, bullying, and harassment also produce psychological harm to teachers and school staff. A newer form of such violence is that of electronic aggression. The CDC defines the problem as: “Any type of harassment or bullying (teasing, telling lies, making fun of someone, making rude or mean comments, spreading rumors, or making threatening or aggressive comments) that occurs through e-mail, a chat room, instant messaging, a Web site (including blogs) or text messaging.” While a recent study found that 35% of young people had been the victims of electronic aggression, the impact of this in the workplace is relatively unknown. The extant evidence indicates that working in a school environment carries an excess risk for becoming a victim of some form of WPV; however, little is known about the incidence or risk factors for such.

The Occupational Safety and Health Act, Public Law 91-596 (section 20[a][1]) authorizes the National Institute for Occupational Safety and Health (NIOSH) to conduct research to advance the health and safety of workers. NIOSH is conducting a population-based, cross-sectional survey among teachers and paraprofessionals in the State of Pennsylvania. The goals of this study are (1) Estimate the number and prevalence proportions (rates) of physical, non-physical, and electronic WPV in teachers and paraprofessionals in Pennsylvania; (2) Identify the circumstances and most common risk factors for physical, non-physical, and electronic WPV in teachers and paraprofessionals in Pennsylvania; (3) Measure the impact of WPV on job satisfaction and quality of life. These goals are solely based on the State of Pennsylvania and are not based on a nation wide study.

NIOSH is proposing to conduct a population-based, cross-sectional survey among teachers and paraprofessionals in the State of Pennsylvania. Paper-and-pencil surveys will be mailed to potential participants through the Pittsburgh Federation of Teachers (PFT), Philadelphia Federation of Teachers (PA-AFT), and the Pennsylvania State Education Association (PSEA). Since approximately 90% of teachers and 65% of paraprofessionals in the State of Pennsylvania hold membership in one of these three unions and no known State-wide database exists that includes both teachers and paraprofessionals, a sample of eligible participants will be drawn using State-based union records.

A stratified random sample will be drawn to ensure representativeness on important dimensions such as gender of participant and urban-rural status of the school district. In conjunction with each participating union, study packets consisting of an introduction letter, paper-and-pencil survey, and non-response form will be mailed to eligible participant's home addresses. The questionnaire is a paper-and-pencil survey and provides information on the following categories: demographics, occupation, physical assault characteristics, non-physical assault characteristics, electronic aggression characteristics, job satisfaction, and quality of life.

The sample size for the cross-sectional survey is estimated to be approximately 5,000 teachers and paraprofessionals. This estimate is based on the number of reported teachers and paraprofessionals represented by the three unions participating in this study and on an 80% response rate that is comparable to the response rate of previously conducted surveys in similar populations. Pilot test data demonstrates that respondents should take approximately 30 minutes to complete the paper-and-pencil survey, resulting in an annualized burden estimate of 2,500 hours. Participation in the study is completely voluntary.

This survey will also utilize the skills and time of a variety of union office and administrative staff for the preparation of the survey packets. The exact number of administrative staff utilized at each union location, as well as the additional work demands placed on them has yet to be determined, though our best guess is 13 individuals. It is estimated that three office support staff from the Pittsburgh Federation of Teachers, six from the Pennsylvania State Education Association, and four from the Philadelphia Federation of Teachers will be needed for a grand total of 13 support staff personnel. Additional work activities could include: Preparation of the sampling frame database and non-respondent database, printing of mailing labels, affixation of mailing labels onto survey packets, and e-mail and/or phone communication with NIOSH. For each mailing, we estimate that each of the 13 administration assistants will dedicate two hours to the mailing. So, for each mailing, a grand total of 26 hours will be burdened. There will be three separate mailings for a grand total burden of 78 burden hours.

There are no costs to the respondents other than their time. The total estimated annual burden hours are 2,578.

Estimated Annualized Burden Hours
Respondents | Number of respondents | Number of responses per respondent | Average burden per response (in hours)
Elementary and Secondary School Employees | 5,000 | 1 | 30/60
Office & Administrative Support Occupations | 13 | 3 | 2

Dated: October 19, 2009.
Maryam Daneshvar,
Acting Reports Clearance Officer, Centers for Disease Control and Prevention.

[FR Doc. E9-25649 Filed 10-23-09; 8:45 am]

BILLING CODE 4163-18-P